DEPARTMENT OF DEFENSE

Office of the Secretary

32 CFR Parts 211 and 398

Removal of Parts

AGENCY: Department of Defense.

ACTION: Final rule.

SUMMARY: The Department of Defense is removing 32 CFR part 211, “DoD Foreign Tax Relief Program” and 32 CFR part 398, “Defense Logistics Agency”. The parts have served the purpose for which they were codified in the CFR and are no longer applicable.

DATES: This rule is effective May 30, 2006.

FOR FURTHER INFORMATION CONTACT: L. Bynum, 703-696-4970.

SUPPLEMENTARY INFORMATION: DoD Instruction 5100.63, “DoD Foreign Tax Relief Program” and DoD Directive 5105.22, “Defense Logistics Agency” may be found at http://www.dtic.mil/whs/directives/.

List of Subjects

32 CFR Parts 211

Armed forces, Foreign relations, Statistics, Taxes.

32 CFR Part 398

Organization and functions (Government agencies).

PARTS 211 AND 398—[REMOVED]

Accordingly, by the authority of 10 U.S.C. 301, 32 CFR parts 211 and 398 are removed.

Dated: May 23, 2006.
L.M. Bynum,
OSD Federal Register Liaison Officer, Department of Defense.

[FR Doc. 06-4915 Filed 5-26-06; 8:45 am]

BILLING CODE 5001-06-M